DEPARTMENT OF TRANSPORTATION

Surface Transportation Board

Information Collection Activities (Depreciation Studies)

ACTION: 60-day notice and request for comments.

SUMMARY: As part of its continuing effort to reduce paperwork burdens, and as required by the Paperwork Reduction Act of 1995, 44 U.S.C. 3501-3519 (PRA), the Surface Transportation Board (Board) gives notice of its intent to request from the Office of Management and Budget (OMB) the information collection—Rail Depreciation Studies—further described below.

Comments are requested concerning (1) whether this collection of information is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Submitted comments will be included and/or summarized in the Board's request for OMB approval.

DATES: Written comments are due on September 28, 2012.

ADDRESSES: Direct all comments to Marilyn Levitt, Surface Transportation Board, Suite 1260, 395 E Street SW., Washington, DC 20423-0001, or to levittm@stb.dot.gov. Comments should be identified as “Paperwork Reduction Act Comments,” and should refer to the title of the collection commented upon.

FOR FURTHER INFORMATION CONTACT: For additional information or copies of the information collection(s) contact Paul Aguiar at (202) 245-0323 or aguiarp@stb.dot.gov. [Federal Information Relay Service (FIRS) for the hearing impaired: (800) 877-8339.]

Subjects: In this notice the Board is requesting comments on the following information collection:

Title: Rail Depreciation Studies.

OMB Control Number: 2140-XXXX.

Form Number: None.

Type of Review: Collection in existence without a Control Number.

Respondents: Class I railroads.

Number of Respondents: 7.

Estimated Time per Response: Between 500 and 540 hours annually, depending on whether the rail-carrier respondent has significant assistance from outside consultants, resulting in an average of 515 hours per response.

Frequency of Response: Every 3 years for equipment; every 6 years for other depreciable property.

Total Annual Hour Burden: 3,605 hours (515 hours × 7 Class I railroads).

Total Annual “Non-Hour Burden” Cost: Between $8,340 and $30,000 annually, depending on whether the rail-carrier respondent has significant assistance from outside consultants, resulting in an annual average of $20,500 and a cumulative total for all 7 Class I railroads of $143,500.

Needs and Uses: Under 49 U.S.C. 11145, the Board is required to identify those classes of property for which rail carriers may include depreciation charges under operating expenses and the Board must also prescribe a rate of depreciation that may be charged to those classes of property. Pursuant to the Board's authority under § 11145, Class I (large) rail carriers are required to submit to the Board Depreciation Studies. Information in these studies is not available from any other source. The Board uses the information in these studies to prescribe depreciation rates. These depreciation rate prescriptions state the period for which the depreciation rates therein are applicable. Class I railroads apply the prescribed depreciation rates to their investment base to determine monthly and annual depreciation expense. This expense is included in the railroads' operating expenses, which are reported in their R-1 reports (OMB Control Number 2140-0009). Operating expenses are used to develop operating costs for application in various proceedings before the Board, such as in rate reasonableness cases and in the determination of railroad revenue adequacy.

SUPPLEMENTARY INFORMATION: Under the PRA, a Federal agency conducting or sponsoring a collection of information must display a currently valid OMB control number. A collection of information, which is defined in 44 U.S.C. 3502(3) and 5 CFR 1320.3(c), includes agency requirements that persons submit reports, keep records, or provide information to the agency, third parties, or the public. Under § 3506(c)(2)(A) of the PRA, Federal agencies are required, prior to submitting a collection to OMB for approval, to provide a 60-day notice and comment period through publication in the Federal Register concerning each proposed collection of information, including each proposed extension of an existing collection of information.

Dated: July 24, 2012.
Jeffrey Herzig,
Clearance Clerk.

[FR Doc. 2012-18428 Filed 7-27-12; 8:45 am]

BILLING CODE 4915-01-P